DEPARTMENT OF THE INTERIOR

Bureau of Land Management

[CA-310-0777-AC]

Notice of Resource Advisory Council Meeting

AGENCY: Bureau of Land Management, Northeast California Resource Advisory Council, Susanville, California, and Sierra Front/Northwestern Great Basin Resource Advisory Council, Carson City, Nevada.

ACTION: Notice of meeting.

SUMMARY: Pursuant to the authorities in the Federal Advisory Committees Act (Public Law 92-463) and the Federal Land Policy and Management Act (Public Law 94-579), the U.S. Bureau of Land Management's Northeast California Resource Advisory Council and the Sierra Front/Northwestern Great Basin Resource Advisory Council will hold a joint session Thursday, April 5, 2001, at the Airport Plaza Hotel, 1981 Terminal Way, Reno, Nevada.

SUPPLEMENTARY INFORMATION: The meeting will run from 9 a.m. to 4:30 p.m. Agenda items include updates on the Black Rock Desert-High Rock Canyon Emigrant Trails National Conservation Area, and the upcoming planning process. Council members may discuss other natural resource management issues common to the Northwest Nevada-Northeast California region. Time will be set aside for public comments. Depending on the number of persons wishing to speak, a time limit may be established.

FOR FURTHER INFORMATION: Contact BLM Public Affairs Officer Joseph J. Fontana at (530) 257-5381.

Susan T. Stokke,
Surprise Field Office Manager.

[FR Doc. 01-6068 Filed 3-9-01; 8:45 am]

BILLING CODE 4310-40-P